DEPARTMENT OF ENERGY

Office of Energy Efficiency and Renewable Energy

10 CFR Part 430

[Docket Number EE-RM/STD-00-550]

RIN 1904-AB08

Energy Conservation Standards for Distribution Transformers

AGENCY: Office of Energy Efficiency and Renewable Energy, Department of Energy.

ACTION: Proposed rule; notice of extension of comment period.

SUMMARY: On October 6, 2000, the Department of Energy (DOE or Department) published a Notice of public workshop and availability of the Framework Document for Distribution Transformer Efficiency Standards. 65 FR 59761. The document announced that December 1, 2000, would be the closing date for receiving public comments and information on the matters addressed in the Framework Document and on other matters relevant to consideration of energy conservation standards for distribution transformers. On November 1, 2000, during the public workshop on the energy efficiency rulemaking process for distribution transformers, several stakeholders requested that the comment period be extended. The Department agrees to extend the comment period closing date until January 16, 2001.

DATES: Comments must be received on or before January 16, 2001.

ADDRESSES: Written comments are welcome. Please submit written comments to: Ms. Geraldine Paige, U.S. Department of Energy, Office of Energy Efficiency and Renewable Energy, “Energy Conservation Program for Consumer Products: Energy Conservation Standards for Distribution Transformers, Docket No. EE-RM/STD-00-550”, EE-41, 1000 Independence Avenue, SW., Washington, DC 20585-0121. Telephone: (202) 586-9130; Telefax: (202) 586-4617. You should label comments both on the envelope and on the documents, and submit them for DOE receipt by January 16, 2001. Please submit one signed copy and a computer diskette (WordPerfect 8) or 10 copies (no telefacsimiles). The Department will also accept electronically-mailed comments, by e-mail to Geraldine.Paige@ee.doe.gov, but you must supplement such comments with a signed hard copy.

FOR FURTHER INFORMATION CONTACT: Carl Adams, U.S. Department of Energy, Office of Energy Efficiency and Renewable Energy, EE-41, 1000 Independence Avenue, SW., Washington, DC 20585-0121, (202) 586-9142, e-mail: carl.adams@ee.doe.gov, or Edward Levy, Esq., U.S. Department of Energy, Office of General Counsel, GC-72, 1000 Independence Avenue, SW., Washington, DC 20585, (202) 586-9507, e-mail: Edward.Levy@hq.doe.gov.

Issued in Washington, DC, on November 27, 2000.
Dan W. Reicher,
Assistant Secretary Energy Efficiency and Renewable Energy.

[FR Doc. 00-30641 Filed 11-30-00; 8:45 am]

BILLING CODE 6450-01-P